ENVIRONMENTAL PROTECTION AGENCY

[EPA-HQ-OPP-2010-0248; FRL-8854-4]

Notice of Receipt of Requests for Amendments to Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by Valent USA registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: Unless a request for withdrawal by the registrant is received by February 11, 2011, order will be issued canceling these registrations. Comments must be received on or before February 11, 2011.

Users of these products who desire continued use on crops or sites being deleted should contact the registrant on or before February 11, 2011.

ADDRESSES: Submit your withdrawal request and comments, identified by docket identification (ID) number EPA-HQ-OPP-2010-0248, by one of the following methods:

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility's telephone number is (703) 305-5805.

FOR FURTHER INFORMATION CONTACT: Christopher Green, Information Technology and Resources Management Division, Office of Pesticide Programs, Environmental Protection Agency, 1200 Pennsylvania Ave., NW., Washington, DC 20460-0001; telephone number: (703) 347-0367; e-mail address: green.christopher@epa.gov.

SUPPLEMENTARY INFORMATION:

I. General Information

A. Does this action apply to me?

This action is directed to the public in general. Although this action may be of particular interest to persons who produce or use pesticides, the Agency has not attempted to describe all the specific entities that may be affected by this action. If you have any questions regarding the information in this notice, consult the person listed under FOR FURTHER INFORMATION CONTACT.

B. How can I get copies of this document and other related information?

EPA has established a docket for this action under docket ID number EPA-HQ-OPP-2010-0248. Publicly available docket materials are available either in the electronic docket at http://www.regulations.gov, or, if only available in hard copy, at the Office of Pesticide Programs (OPP), Regulatory Public Docket in Rm. S-4400, One Potomac Yard (South Bldg.), 2777 S. Crystal Dr., Arlington, VA. The hours of operation of this Docket Facility are from 8:30 a.m. to 4 p.m., Monday through Friday, excluding legal holidays. The Docket Facility's telephone number is (703) 305-5805.

II. What action is the agency taking?

This notice announces receipt by the Agency of applications from a registrant to delete uses in certain pesticide registrations. The registrations are listed in Table 1 of this unit by registration number, product name, active ingredient, and specific uses deleted. The following requests have a 30-day comment period.

Table 1—Requests for Amendments to Delete Uses in Certain Pesticide Registrations
EPA registration no. | Product name | Active ingredient | Delete use from label
59639-37 | Sumagic Plant Growth Regulator | Uniconazole | Outdoor uses (Lathhouse and Shadehouse).
59639-38 | Valent Uniconazole-P Technical | Uniconazole | Outdoor uses (Lathhouse and Shadehouse).

Table 2 of this unit includes the name and address of record for the registrant of the products listed in Table 1 of this unit by EPA company number.

Table 2—Registrant Requesting Amendments To Delete Uses in Certain Pesticide Registrations
EPA company No. | Company name and address
59639 | Valent USA Corporation, 1600 Riviera Avenue, Suite 200, Walnut Creek, CA 94596-8025.

III. What is the agency's authority for taking this action?

Section 6(f)(1) of FIFRA provides that a registrant of a pesticide product may at any time request that any of its pesticide registrations be amended to delete one or more uses. The FIFRA further provides that, before acting on the request, EPA must publish a notice of receipt of any such request in the Federal Register. Thereafter, the Administrator may approve such a request.

IV. Procedures for Withdrawal of Request

The registrant may choose to withdraw a request for use deletion by submitting the withdrawal in writing to Christopher Green using the methods in ADDRESSES. The Agency will consider the written withdrawal request no later than February 11, 2011, for registrations for which the registrant requested a waiver of the 180-day comment period. The registrant, Valent USA Corporation, requested a waiver of the 180-day comment period.

V. Provisions for Disposition of Existing Stocks

The Agency has authorized the registrants to sell or distribute a product under the previously approved labeling for a period of 18 months after approval of the revision, unless other restrictions have been imposed, as in special review actions.

List of Subjects

Environmental protection, Pesticides and pests.

Dated: January 3, 2011.
Oscar Morales,
Director, Information Technology and Resources Management Division, Office of Pesticide Programs.

[FR Doc. 2011-491 Filed 1-11-11; 8:45 am]

BILLING CODE 6560-50-P